DEPARTMENT OF ENERGY

Federal Energy Regulatory Commission

[Docket No. RM01-5-000]

Electronic Tariff Filings; Notice of Technical Conference

December 22, 2010.

Take notice that on January 21, 2011, from 9 a.m. to 12 noon (EST), a technical conference will be held to discuss issues relating to the electronic filing of tariff and tariff related materials pursuant to Order No. 714.¹ The technical conference will cover the following areas: (1) The addition to the Type of Filing CSV file of the FERC regulatory citation for each filing type as used by the Commission's eLibrary Description for eTariff filings; (2) an explanation and discussion of the eTariff Viewer's Export file format and data elements which is being developed; (3) a change in the description for Type Of Filing Codes 1120 and 1150 from “Market-Based Rate Request and Triennial Review” to “Market-Based Rate Triennial Review”, to become effective January 24, 2011, in order to make clear that these filing codes should not be used for initial requests for market based rates; and (4) a discussion with FERC staff of lessons learn since the implementation of eTariff.

¹ Electronic Tariff Filings, Order No. 714, 73 FR 57,515 (Oct. 3, 2008), 124 FERC ¶ 61,270, FERC Stats. & Regs [Regulations Preambles] ¶ 31,276 (2008) (Sept. 19, 2008).

The technical conference is open to the public. The conference will be held at the Federal Energy Regulatory Commission, 888 First Street, NE., Washington, DC 20426. In addition, the conference will be accessible via telephone. Staff will post documents it anticipates referencing during the conference on the eTariff Web site to make them accessible to those using the telephone.

FERC conferences are accessible under section 508 of the Rehabilitation Act of 1973. For accessibility accommodations please send an e-mail to accessibility@ferc.gov or call toll free (866) 208-3372 (voice) or (202) 502-8659 (TTY), or send a fax to (202) 208-2106 with the required accommodations.

The telephone number for the conference will be posted on http://www.ferc.gov/docs-filing/etariff.asp and an RSS alert of the posting will be issued. No preregistration is required.

For more information, contact Keith Pierce, Office of Energy Market Regulation at (202) 502-8525 or send an e-mail to ETariff@ferc.gov.

Kimberly D. Bose,
Secretary.

[FR Doc. 2010-32843 Filed 12-29-10; 8:45 am]

BILLING CODE 6717-01-P